DEPARTMENT OF COMMERCE

International Trade Administration

15 CFR Part 336

19 CFR Part 357

[Docket No. 120117047-2421-02]

RIN 0625-AA90

Final Withdrawal of Regulations Pertaining to Imports of Cotton Woven Fabric and Short Supply Procedures

AGENCY: Import Administration, International Trade Administration, Department of Commerce.

ACTION: Final rule.

SUMMARY: Import Administration (“IA”) issues this final rule withdrawing regulations pertaining to imports of cotton woven fabric and short supply procedures. Both sets of regulations are obsolete: The tariff quota on cotton woven fabric expired in 2009, and the short supply voluntary restraints have not affected U.S. trade for over 19 years. The removal of these regulations will simplify research into the trade laws and eliminate confusion for both United States importers and foreign exporters.

DATES: Effective Date: This Final Withdrawal of Regulations will become effective June 25, 2012.

FOR FURTHER INFORMATION CONTACT: Robert Goodyear, Director, Office of Operations Support, Import Administration, U.S. Department of Commerce, at 202-482-5194 or Scott McBride, Senior Attorney, Office of the Chief Counsel for Import Administration, U.S. Department of Commerce, at (202) 482-6292.

SUPPLEMENTARY INFORMATION:

Background

President Barack Obama issued Executive Order 13563 on January 18, 2011, titled “Improving Regulation and Regulatory Review.” The Executive Order directed all agencies, to “develop and submit” to the Office of Information and Regulatory Affairs plans under which agencies, “consistent with law and [their] resources and regulatory priorities,” will “periodically review [their] existing significant regulations to determine whether any such regulations should be modified, streamlined, expanded or repealed so as to make the agency's regulatory program more effective or less burdensome in achieving the regulatory objectives.” The Executive Order states that one of the purposes of implementing a program to perform a “retrospective analysis of existing rules” is to withdraw regulations that are “outmoded, ineffective, insufficient, or excessively burdensome.”

In August 2011, the U.S. Department of Commerce issued its Plan for Retrospective Analysis of Existing Rules. < http://open.commerce.gov/news/2011/08/23/commerce-plan-retrospective-analysis-existing-rules>. Within the Department's Plan, International Trade Administration (ITA) indicated that IA, a subagency of ITA, intended to withdraw two groups of regulations which it determined are obsolete. On February 3, 2012, IA published a notice proposing the withdrawal of those two groups of regulations and requested public comment. See Proposed Withdrawal of Regulations Pertaining to Imports of Cotton Woven Fabric and Short Supply Procedures: Opportunity for Public Comment, 77 FR 5440 (Feb. 3, 2012). No comments were received within the time set forth in the notice.

The regulatory provisions titled “Imports of Cotton Woven Fabric,” codified at 15 CFR 336.1-336.5, are no longer relevant. They were implemented pursuant to the Tax Relief and Health Care Act of 2006, at Division C, Title IV, Section 406(b)(1) (Pub. L. 109-432) (codified in the Harmonized Tariff Schedule of the United States, per 19 U.S.C. 3004) (2006). The Tax Relief and Health Care Act of 2006 set forth tariff rate quotas for cotton woven fabric and the regulatory provisions at issue provide for the administration of allocations of those quotas by IA. The interim regulations were issued in 2007, and then adopted without change, with an effective date of July 10, 2008. Imports of Certain Cotton Shirting Fabric: Implementation of Tariff Rate Quota Established Under the Tax Relief and Health Care Act of 2006 (Interim Final Rule), 72 FR 40235 (July 24, 2007); Imports of Certain Cotton Shirting Fabric: Implementation of Tariff Rate Quota Established Under the Tax Relief and Health Care Act of 2006 (Final Rule), 73 FR 39585 (July 10, 2008). However, the tariff rate quota on cotton woven fabric expired on December 31, 2009. Accordingly, these regulations are obsolete and are therefore withdrawn.

The regulations pertaining to “Short Supply Procedures,” which are codified at 19 CFR 357.101-111, are also no longer relevant. These regulations were issued pursuant to Section 4(b) of the Steel Trade Liberalization Program Implementation Act (Pub. L. 101-221) (1989). Short Supply Procedures (Interim—Final Rules), 55 FR 1348 (Jan. 12, 1990). They pertain to voluntary restraints on certain steel imports from October 1, 1989 through March 31, 1992, and IA was tasked with making short supply determinations under these regulations. IA has determined to withdraw these regulations because they are obsolete, as the associated import restraints have not affected U.S. trade for over 19 years.

Classification

Executive Order 12866

It has been determined that this final rule is not significant for purposes of Executive Order 12866.

Paperwork Reduction Act of 1995

This final rule contains no new collection of information subject to the Paperwork Reduction Act of 1995, 44 U.S.C. Chapter 35.

Executive Order 13132

This final rule does not contain policies with federalism implications as that term is defined in section 1(a) of Executive Order 13132, dated August 4, 1999 (64 FR 43255) (August 10, 1999).

Environmental Impact

ITA has determined pursuant to 21 CFR 25.30 that this action is of a type that does not individually or cumulatively have a significant effect on the human environment. Therefore, neither an environmental assessment nor an environmental impact statement is required.

Regulatory Flexibility Act

Under the Regulatory Flexibility Act (as amended by the Small Business Regulatory Enforcement Fairness Act (SBREFA) of 1996; 5 U.S.C. 601 et seq.), whenever a Federal agency is required to publish a notice of rulemaking for any proposed or final rule, it must prepare, and make available for public comment, a regulatory flexibility analysis that describes the effect of the rule on small entities (i.e., small businesses, small organizations, and small government jurisdictions). However, no regulatory flexibility analysis is required if the head of an agency certifies that the rule will not have a significant economic impact on a substantial number of small entities. SBREFA amended the Regulatory Flexibility Act to require Federal agencies to provide a statement of the factual basis for certifying that a rule will not have a significant economic impact on a substantial number of small entities. The Department of Commerce Chief Counsel for Regulation certified at the proposed rule stage that this rule will have no impact on small entities. This rule simply makes a technical correction by withdrawing obsolete regulations. No comments were received on that certification. Accordingly, no Regulatory Flexibility Analysis is required and none has been prepared.

List of Subjects

15 CFR Part 336

Imports, Quotas, Reporting and recordkeeping, Tariffs, Textiles.

19 CFR Part 357

Imports, Reporting and recordkeeping requirements, Steel.

PART 336—IMPORTS OF COTTON WOVEN FABRIC

Accordingly, under the authority given pursuant to the Tax Relief and Health Care Act of 2006, at Division C, Title IV, Section 406(a)(1) (Pub. L. 109-432) (2006) (titled “Temporary Duty Reductions for Certain Cotton Shirting Fabric” and listing 12/31/2009 as the end date for the tariff rate quota), ITA amends 15 CFR chapter III by removing part 336.

PART 357—SHORT SUPPLY PROCEDURES

Accordingly, under the authority given by Section 4(b) of the Steel Trade Liberalization Program Implementation Act (Pub. L. 101-221), which by its terms was limited to imports through March 31, 1992, ITA amends 19 CFR chapter III by removing part 357.

Dated: May 21, 2012.
Paul Piquado,
Assistant Secretary for Import Administration.

[FR Doc. 2012-12791 Filed 5-24-12; 8:45 am]

BILLING CODE 3510-DS-P